DEPARTMENT OF DEFENSE

Department of the Army

Notice of Availability of the Record of Decision for the Final Environmental Impact Statement for the Transformation of the Pennsylvania Army National Guard 56th Brigade Into a Stryker Brigade Combat Team at the National Guard Training Center-Fort Indiantown GAP, PA

AGENCY: Department of the Army DoD.

ACTION: Notice of availability.

SUMMARY: The National Guard Bureau and the Department of the Army announce the availability of the Record of Decision (ROD), which explains the decision to proceed with the Transformation of the Pennsylvania Army National Guard (PAARNG) 56th Stryker Brigade Combat Team (SBCT). This action includes construction of new training and support facilities at the National Guard Training Center-Fort Indiantown Gap (NGTC-FTIG), Fort Pickett, VA, and local PAARNG facilities across the Commonwealth of Pennsylvania. The action also includes Annual Training (AT) at Fort A.P. Hill, VA in order to accomplish requisite training. The Final Environmental Impact Statement (FEIS) complies with all applicable requirements, and adequately addresses the biological, physical, socioeconomic, and cultural impacts from implementing the proposed action.

ADDRESSES: Written comments or materials should be forwarded to LTC Christopher Cleaver, NGTC-FTIG Public Affairs Officer, PADMVA Headquarters, Building 0-47, Annville, PA 17003-5002, or Ms. Patricia Rickard, NGTC-FTIG EIS Project Officer, NGTC-FTIG Environmental Section, 1119 Utility Road, Annville, PA 17003-5002.

FOR FURTHER INFORMATION CONTACT: LTC Christopher Cleaver at (717) 861-8468 or Ms. Patricia Rickard at (717) 861-2580.

SUPPLEMENTARY INFORMATION: The FEIS examined three alternatives: (1) Preferred Alternative—implement all construction actions identified in the FEIS; (2) Train Using Existing Facilities Alternative—using existing PAARNG training ranges and additional facilities at other regional Army installations (outside of Pennsylvania) to fulfill Inactive Duty Training and AT requirements on a temporary to permanent basis; (3) No-Action Alternative—do not implement the proposed action and continue current operations. Significant impacts are anticipated from both Action Alternatives, although the Preferred Alternative would result in greater impacts. The Train Using Existing Army Facilities Alternative would result in fewer impacts, but would not achieve the purpose of and need for the proposed action as effectively as the Preferred Alternative. The FEIS identifies mitigation measures to minimize impacts from the proposed action. Unmitigable impacts are expected to occur to land use associated with establishment of the proposed “full” Combined Arms Collective Training Facility (CACTF) at NGTC-FTIG. The proposed CACTF would require the acquisition of up to eight private properties that are in-holdings totaling 18.1 acres. There would be a loss of approximately 224 acres of prime farmland due to construction of statewide facilities, and the permanent removal of up to 745 acres of continuous forest habitat at NGTC-FTIG and approximately 15 acres at Fort Pickett that would not be replaced by similar forest habitat. No Federally designated threatened or endangered species would be significantly affected under the Preferred Alternative. No significant air quality, cultural and water resources, noise, infrastructure, or environmental justice impacts would occur under the Preferred Alternative. In consultation with Federally-recognized Native American Tribes, no significant traditional cultural properties or Native American sacred sites have been identified within areas that would be impacted under the Preferred Alternatives. As such, no impacts to Federally-recognized Native American Tribes or their interests are anticipated. Beneficial socioeconomic impacts are expected as local construction will require local products and manpower.

Dated: April 13, 2006.
Clyde A. Vaughn,
Lieutenant General, U.S. Army, Director, Army National Guard.

[FR Doc. 06-3843 Filed 4-21-06; 8:45 am]

BILLING CODE 3710-08-M